FEDERAL COMMUNICATIONS COMMISSION

47 CFR Part 64

[WC Docket Nos. 12-375, 23-62; FCC 24-75; DA 25-23; FR ID 313432]

Incarcerated People's Communications Services; Implementation of the Martha Wright-Reed Act; Rates for Interstate Inmate Calling Services

AGENCY: Federal Communications Commission.

ACTION: Final rule; announcement of effective date.

SUMMARY: In this document, the Federal Communications Commission (Commission) announces that the Office of Management and Budget (OMB) has approved, for a period of three years, an information collection associated with the amendments to 47 CFR 64.6060 that the Commission adopted in the 2024 Incarcerated People's Communications Services (IPCS) Order, FCC 24-75, 89 FR 77244 (Sept. 20, 2024), and the requirements for incarcerated people's communications services (IPCS) providers' Annual Reports and certifications that the Commission's Wireline Competition Bureau (WCB) and Consumer and Governmental Affairs Bureau (CGB) adopted in the 2025 IPCS Annual Reports Order, DA 25-23, 90 FR 11804 (Mar. 12, 2025). OMB approved that information collection on September 8, 2025. The instant document implements aspects of the 2024 IPCS Order and the 2025 IPCS Annual Reports Order, which directed the Commission to publish a document in the Federal Register announcing the effective date of these amendments and requirements.

DATES: Amendatory instruction 17 (47 CFR 64.6060), published at 89 FR 77244 on September 20, 2024, and delayed indefinitely, and the requirements for IPCS providers' Annual Reports and certifications, published at 90 FR 11804 on March 12, 2025, are effective on September 19, 2025.

FOR FURTHER INFORMATION CONTACT: Shabbir Hamid, Pricing Policy Division, Wireline Competition Bureau, (202) 418-2328, or email Shabbir.Hamid@fcc.gov.

SUPPLEMENTARY INFORMATION: This document announces that, on September 8, 2025, OMB approved for a period of three years, the information collection requirements associated with the amendments to 47 CFR 64.6060 that the Commission adopted in the 2024 IPCS Order and the requirements for IPCS providers' Annual Reports and certifications that WCB and CGB adopted in the 2025 IPCS Annual Reports Order. Notices related to the information collection were published at 89 FR 77244 and 90 FR 11804, respectively. The OMB Control Number is 3060-1222. IPCS providers' responses to the data collection are due on November 3, 2025.

If you have any comments on the data collection, or how the Commission can improve the data collection and reduce any burdens caused thereby, please contact Nicole Ongele, Federal Communications Commission, 45 L Street NE, Washington, DC 20002. Please include the OMB Control Number, 3060-1222, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on September 8, 2025 for the information collection requirements contained in the amendments to 47 CFR 64.6060 adopted in the 2024 IPCS Order and with the requirements for Annual Reports and certifications contained in the 2025 IPCS Annual Reports Order. Under 5 CFR part 1320, an agency may not conduct or sponsor a collection of information unless it displays a current, valid OMB Control Number. No person shall be subject to any penalty for failing to comply with a collection of information subject to the Paperwork Reduction Act that does not display a current, valid OMB Control Number. The OMB Control Number is 3060-1222.

The foregoing notification is required by the Paperwork Reduction Act of 1995, Public Law 104-13, October 1, 1995, and 44 U.S.C. 3507.

The total annual reporting burdens and costs for the respondents are as follows:

OMB Control Number: 3060-1222.

Title: Incarcerated People's Communications Services (IPCS) Provider Annual Reporting, Certification, and Other Requirements, WC Docket Nos. 23-62, 12-375.

OMB Approval Date: September 8, 2025.

OMB Expiration Date: September 30, 2028.

Form Numbers: FCC Form 2301(a) and FCC Form 2301(b).

Respondents: Business or other for-profit.

Number of Respondents and Responses: 35 respondents; 38 responses.

Estimated Time per Response: 5-160 hours.

Frequency of Response: Annual reporting and certification requirements, third party disclosure, waiver request and on-occasion reporting requirement.

Total Annual Burden: 9,165 hours.

Total Annual Cost: No Cost.

Obligation to Respond: Required to obtain or retain benefits. Statutory authority for this information collection is contained in sections 1, 2, 4(i)-(j), 5(c), 201(b), 218, 220, 225, 255, 276, 403, and 716 of the Communications Act of 1934, as amended, 47 U.S.C. 151, 152, 154(i)-(j), 155(c), 201(b), 218, 220, 225, 255, 276, 403, and 617, and the Martha Wright-Reed Act, Public Law 117-338, 136 Stat. 6156 (2022).

Needs and Uses: In July 2024, the Commission adopted the 2024 IPCS Order, which implemented the expanded authority granted to the Commission by the Martha Wright-Reed Act. Among other actions, that Order expanded the Commission's annual reporting and certification requirements to include the full scope of services and providers now subject to the IPCS rules. The Commission also eliminated the sections of the annual reporting rules mandating the reporting of information on ancillary service charges and site commissions, to reflect the prohibitions of those items adopted in the 2024 IPCS Order. Finally, the Commission reaffirmed and updated its prior delegation of authority to WCB and CGB to revise the requirements for the Annual Reports and certifications, to reflect the Commission's expanded authority under the Martha Wright-Reed Act and the other actions taken in the 2024 IPCS Order, and directed the Bureaus to pay particular attention to the video IPCS marketplace and the availability and usage of TRS in exercising this delegated authority.

On January 8, 2025, WCB and CGB released the 2025 Annual Reports Order, in which they revised the instructions, reporting templates, and certification form for the Annual Reports that IPCS providers are required to submit.

Federal Communications Commission.
Lynne H. Engledow,
Acting Chief, Pricing Policy Division, Wireline Competition Bureau.

[FR Doc. 2025-18189 Filed 9-18-25; 8:45 am]

BILLING CODE 6712-01-P